DEPARTMENT OF COMMERCE

National Oceanic and Atmospheric Administration

50 CFR Part 660

[Docket No. 040830250-5062-03; I.D. 093005A]

Fisheries Off West Coast States and in the Western Pacific; Pacific Coast Groundfish Fishery; Specifications and Management Measures; Inseason Adjustments

AGENCY: National Marine Fisheries Service (NMFS), National Oceanic and Atmospheric Administration (NOAA), Commerce.

ACTION: Inseason adjustments to management measures; request for comments.

SUMMARY: NMFS announces changes to management measures in the commercial and recreational Pacific Coast groundfish fisheries. These actions, which are authorized by the Pacific Coast Groundfish Fishery Management Plan (FMP), will allow fisheries to access more abundant groundfish stocks while protecting overfished and depleted stocks.

DATES: Effective 0001 hours (local time) October 1, 2005. Comments on this rule will be accepted through November 4, 2005.

ADDRESSES: You may submit comments, identified by 093005A by any of the following methods:

• E-mail: GroundfishInseason4.nwr@noaa.gov. Include I.D. number 093005A in the subject line of the message.

• Federal eRulemaking Portal: http://www.regulations.gov. Follow the instructions for submitting comments.

• Fax: 206-526-4646, Attn: Jamie Goen.

• Mail: D. Robert Lohn, Administrator, Northwest Region, NMFS, Attn: Jamie Goen, 7600 Sand Point Way NE., Seattle, WA 98115-0070.

FOR FURTHER INFORMATION CONTACT: Jamie Goen (Northwest Region, NMFS), phone: 206-526-6140; fax: 206-526-6736; and e-mail: jamie.goen@noaa.gov.

SUPPLEMENTARY INFORMATION:

Electronic Access

This Federal Register document is available on the Government Printing Office's Web site at: http://www.gpoaccess.gov/fr/index.html.

Background information and documents are available at the NMFS Northwest Region Web site at: http://www.nwr.noaa.gov/1sustfsh/gdfsh01.htm and at the Pacific Fishery Management Council's Web site at: http://www.pcouncil.org.

Background

The Pacific Coast Groundfish FMP and its implementing regulations at title 50 in the Code of Federal Regulations (CFR), part 660, subpart G, regulate fishing for over 80 species of groundfish off the coasts of Washington, Oregon, and California. Groundfish specifications and management measures are developed by the Pacific Fishery Management Council (Pacific Council), and are implemented by NMFS. The specifications and management measures for 2005-2006 were codified in the CFR (50 CFR part 660, subpart G). They were published in the Federal Register as a proposed rule on September 21, 2004 (69 FR 56550), and as a final rule on December 23, 2004 (69 FR 77012). The final rule was subsequently amended on March 18, 2005 (70 FR 13118); March 30, 2005 (70 FR 16145); April 19, 2005 (70 FR 20304); May 3, 2005 (70 FR 22808); May 4, 2005 (70 FR 23040); May 5, 2005 (70 FR 23804); May 16, 2005 (70 FR 25789); May 19, 2005 (70 FR 28852); July 5, 2005 (70 FR 38596); and August 31, 2005 (70 FR 51682).

The following changes to current groundfish management measures were recommended by the Pacific Council, in consultation with Pacific Coast Treaty Indian Tribes and the States of Washington, Oregon, and California, at its September 19-23, 2005, meeting in Portland, OR. The changes recommended by the Pacific Council include: (1) Changes to the trawl Rockfish Conservation Areas (RCAs) for limited entry trawl fisheries, (2) changes to the limited entry trawl trip limits for “other flatfish,” petrale sole, English sole, arrowtooth flounder, minor slope rockfish, darkblotched rockfish, splitnose rockfish, and to the limits for Dover sole, longspine thornyhead, shortspine thornyhead and sablefish (DTS), (3) an increase to the bycatch limit for widow rockfish in the whiting fishery, (4) changes to the limited entry fixed gear and open access daily trip limits for sablefish, (5) changes to Washington's recreational groundfish fishery RCA, and (6) changes to Oregon's recreational groundfish fishery bag limits. Pacific Coast groundfish landings will be monitored throughout the year, and further adjustments to other trip limits or management measures will be made as necessary to allow achievement of, or to avoid exceeding, optimum yields (OYs).

Limited Entry Trawl RCA Changes

A review of Pacific Fisheries Information Network (PacFIN) Quota Species Monitoring (QSM) data shows that the catch of petrale sole is quickly approaching its optimum yield (OY), which is set equal to the acceptable biological catch (ABC) in 2005. As of September 16, 2005, QSM data indicate that the total non-tribal petrale sole catch is 2,552 mt out of a combined tribal/non-tribal ABC/OY of 2,762 mt. Because petrale sole is already approaching its ABC/OY in September, a winter petrale sole fishery in November and December (Period 6) cannot be accommodated. Additionally, the catch of canary rockfish in the limited entry bottom trawl fishery has exceeded the 8.0 mt of canary rockfish projected for the year for this fishery in the bycatch scorecard by 1.5 mt.

NMFS has been monitoring the limited entry trawl fishery throughout the year, and sent out a public notice on July 27, 2005 (NMFS-SEA-05-05) to notify the public that petrale sole and canary rockfish take in the limited entry bottom trawl fleet was higher than had been expected. NMFS also alerted the public that the agency might have to take action to slow the catch of these species to keep total catch within their ABC and/or harvest guidelines and requested that the harvesting and processing communities take voluntary action to slow their catch rates. While the harvesting and processing communities have slowed catch somewhat, voluntary action alone is not enough, in this case, to keep total catch of petrale sole and canary rockfish within harvest limits for 2005.

In order to further reduce the take of canary rockfish and petrale sole in the trawl fishery, the Pacific Council recommended modifying the trawl RCA and reducing trip limits for DTS and flatfish species (see following section on Limited Entry Trawl Trip Limit Adjustments). For the trawl RCA, the Pacific Council recommended increasing the size of the area closed to fishing with trawl gear by modifying the seaward boundary of the trawl RCA to be at a boundary line approximating the 250-fm (457-m) depth contour coastwide. In order to further reduce the take of petrale sole in the trawl fishery, the Pacific Council recommended modifying the shoreward boundary of the trawl RCAs to be at the shoreline north of 36° N. lat. and be at a boundary line approximating the 50-fm (91-m) depth contour south of 36° N. lat. This allows for more opportunities in areas south of 36° N. lat., where canary rockfish and petrale sole encounters are minimal, than in the north.

However, implementation of a boundary line approximating the 250-fm (457-m) depth contour south of 38° N. lat. to the U.S./Mexico border is not possible through an inseason action because coordinates do not exist in Federal regulations for that line. In keeping with the Pacific Council's intent to increase the size of the trawl RCA to protect petrale sole and canary rockfish in general, and, in this case, to move the seaward boundary of the trawl RCA to protect petrale sole, the next closest RCA boundary line for this area with coordinates published in Federal regulations is a boundary line approximating the 200-fm (366-m) depth contour. Because there is catch of petrale between 200-fm (366-m) and 250-fm (457-m) in this area, NMFS expects that this change alone will not keep total catch of petrale sole within the ABC/OY for petrale, thus NMFS is also prohibiting the retention of petrale sole in this area during October as explained below in the following section titled “ Limited Entry Trawl Trip Limit Adjustments.” This combination of measures gets the management scheme as close as possible to what was recommended by the Pacific Council.

While the open access non-groundfish fisheries have historically been subject to the same trawl RCA boundaries as limited entry trawl fisheries, the open access non-groundfish trawl fisheries only encounter minimal amounts of petrale sole and Dover sole. For example, 2004 fishticket data from the California halibut fishery shows a total of 150 lb (68 kg) of petrale sole landed between October and December in the area between 40°30′ N. lat. and 36° N. lat. In addition, the catch of canary rockfish in the open access non-groundfish trawl fisheries has already been accounted for in the bycatch scorecard separately from the limited entry trawl fishery, and are projected to take 0.1 mt for the year. Therefore, the non-groundfish trawl RCA for the open access non-groundfish trawl fisheries has not been adjusted to reflect changes in what has generally been called the “trawl RCA.”

Therefore, the Pacific Council recommended and NMFS is implementing the following inseason changes to be effective October through December:

1. Between the U.S./Canada border and 36° N. lat., move the shoreward boundary of the limited entry trawl RCA from a boundary line approximating 100-fm (183-m) to the shoreline in October, and from a boundary line approximating 75-fm (137-m) to the shoreline in November and December;

2. Between 36° N. lat. and the U.S./Mexico border, move the shoreward boundary of the limited entry trawl RCA from a boundary line approximating 100-fm (183-m) to a boundary line approximating 50-fm (91-m) in October, and from a boundary line approximating 75-fm (137-m) to a boundary line approximating 50-fm (91-m) in November and December;

3. Between the U.S./Canada border and 40°10′ N. lat., move the seaward boundary of the limited entry trawl RCA from a boundary line approximating 200-fm (366-m) to a boundary line approximating 250-fm (457-m) in October, and from a boundary line approximating 200-fm (366-m), as modified to accommodate petrale fishing, to a boundary line approximating 250-fm (457-m)(not modified to accommodate petrale fishing) in November and December; and

4. Between 40°10′ N. lat. and 38° N. lat., move the seaward boundary of the limited entry trawl RCA from a boundary line approximating 150-fm (274-m) to a boundary line approximating 250-fm (457-m) in October through December.

In addition, as explained above, NMFS is implementing something different than what the Pacific Council recommended for the seaward boundary of the limited entry trawl RCA south of 38° N. lat. NMFS is implementing the following inseason changes to be effective October through December, 2005:

5. Between 38° N. lat. and the U.S./Mexico border, move the seaward boundary of the limited entry trawl RCA from a boundary line approximating 150-fm (274-m) to a boundary line approximating 200-fm (366-m) in October through December; and

6. Between 34°27′ N. lat. and the U.S./Mexico border, move the seaward boundary of the limited entry trawl RCA around islands from a boundary line approximating 150-fm (274-m) to a boundary line approximating 200-fm (366-m) in October through December.

Limited Entry Trip Limit Adjustments

(Note: The analysis and projections in the discussion below were based on recommendations given at the Pacific Council meeting when the seaward boundary of the limited entry trawl RCA south of 38° N. lat. was assumed to be at 250-fm.)

The limited entry trawl trip limits for DTS, “other flatfish,” petrale sole, English sole, arrowtooth flounder, minor slope rockfish, darkblotched rockfish and splitnose rockfish are adjusted based on observer data, logbook data, current fish ticket landings data from PacFIN and on analysis using the trawl model.

As mentioned previously under the “Limited Entry Trawl RCA Changes,” fishticket landings data from PacFIN through mid-September in 2005 were reviewed at the Pacific Council meeting. Compared to trawl model projections for 2005, landings for petrale sole and Dover sole were higher than what had been projected in the trawl model. Higher landings of petrale sole and Dover sole are of particular concern, because access to flatfish stocks is substantially more liberal than in recent years, and these species were initially modeled to achieve their respective OYs. While flatfish trip limits were initially reduced through the May 4, 2005 inseason action (70 FR 23040), further reductions are necessary to slow the catch of flatfish species through the end of the year.

Trip limits for petrale sole will be substantially reduced in November and December (Period 6), with the intent to discourage targeting but allow incidental catch in the DTS fishery to minimize discard. This reduction combined with the limited entry trawl RCA changes recommended at the Pacific Council meeting, is projected to keep petrale sole catch within its ABC/OY for the year (2,748 mt predicted to be caught out of an ABC/OY of 2,762 mt).

Trip limits for DTS are also adjusted to slow the catch of Dover sole while still allowing some targeting. While trip limits for sablefish and thornyheads were increased for some trawl gear types in some areas through the July 5, 2005 inseason changes (70 FR 38596), trip limits for DTS in all areas are generally being reduced in November and December. Because there is no area open to trawl fishing shoreward of the trawl RCA north of 40°10′ N. lat., all gear types will have the same trip limits seaward of the trawl RCA in November and December. Therefore, Dover sole trip limits in November and December (period 6) are being increased from previously scheduled limits for fishers using selective flatfish trawl gear and decreased from previously scheduled limits for fishers using small or large footrope trawl gear, so the trip limits for all gear types will be the same.

In addition, the Dover sole trip limit north of 40°10′ N. lat. will be increased slightly for the September and October cumulative limit period (period 5). Because the trawl RCA in this area will extend between the shoreline and a boundary line approximating the 250-fm (457-m) depth contour beginning in October (the middle of a cumulative limit period), the Dover sole trip limit is increased to make the trip limits for all trawl gear, including selective flatfish trawl gear, match. Previously, fishers who used selective flatfish trawl gear to catch Dover sole shoreward of the RCA had a higher trip limit (35,000 lb (15.9 mt) as opposed to 30,000 lb (13.6 mt) seaward of the trawl RCA). This differential trip limit was intended to encourage fishers to use selective flatfish trawl gear which has been shown to have lower incidental catch of overfished groundfish species. Thus, by increasing the Dover sole trip limit for all trawl gears to match the highest trip limit allowed during Period 5, fishers who have previously used selective flatfish trawl gear shoreward of the RCA will not be restricted to that lower limit when fishing seaward of the trawl RCA for the remainder of Period 5.

Trip limits for the “other flatfish” complex, English sole and arrowtooth flounder will also be reduced in Period 6 to reduce the take of Dover sole, a co-occurring flatfish species.

All of these changes, the reduction in DTS trip limits during Period 6, the increase in the Dover sole trip limit north of 40°10′ N. lat. during Period 5, and the reduction in flatfish trip limits, are projected to keep catch of DTS species within their OYs for the year (Dover sole: projected limited entry trawl take is 7,431 mt out of an OY of 7,476 mt; longspine thornyhead: 696 mt out of an OY of 2,646 mt; shortspine thornyhead: 723 mt out of an OY of 999 mt; and sablefish: 2,429 mt out of an OY of 7,761 mt).

Trip limits for minor slope rockfish/darkblotched rockfish and splitnose rockfish between 40°10′ N. lat. and 38° N. lat. will also be reduced in Period 6 to reduce the take of Dover sole and petrale sole, species which co-occur with these slope rockfish. In addition, with the seaward boundary of the trawl RCA moving out to a boundary line approximating the 250-fm (457-m) depth contour, the likelihood of catching these species decreases.

As previously discussed in the section on “Limited Entry Trawl RCA Changes,” the Pacific Council recommended that NMFS implement a seaward limited entry trawl RCA boundary line approximating the 250-fm (457-m) depth contour coastwide in order to nearly eliminate the catch of petrale sole. However, NMFS is not able to implement this line south of 38° N. lat. to the U.S./Mexico border because there are no coordinates for this line in Federal regulations. Therefore, in order to implement the intent of the Pacific Council recommendation as much as possible, NMFS is implementing a boundary line approximating the 200-fm (366-m) depth contour and a prohibition on the retention of petrale sole in this area. Because there is catch of petrale between 200-fm (366-m) and 250-fm (457-m), including some targeting on petrale sole, moving the RCA boundary line from 150-fm (274-m) to 200-fm (366-m) for October through December will likely not keep total catch of petrale sole within its ABC/OY for the year. A reduction of the petrale sole trip limit during the middle of a cumulative trip limit period (in this case, September through October) is not possible for enforcement reasons. Therefore, in addition to the line change, NMFS is also implementing a prohibition on the retention of petrale sole between 38° N. lat. and the U.S./Mexico border during the month of October in order to prevent targeting on petrale sole. During November and December, the Pacific Council recommendation of decreasing the trip limit for petrale sole to 2,000 lb (0.9 mt) per 2 months is sufficient to allow retention of incidentally caught petrale sole while not encouraging targeting.

Therefore, the Pacific Council recommended and NMFS is implementing the following inseason adjustments:

1. North of 40°10′ N. lat., with large and small footrope trawl gear, increase Dover sole trip limits from 30,000 lb (13.6 mt) per 2 months to 35,000 lb (15.9 mt) per 2 months in Period 5 (September through October);

2. North of 40°10′ N. lat., with large and small footrope trawl gear, decrease Dover sole trip limits from 22,000 lb (10.0 mt) per 2 months to 20,000 lb (9.1 mt) per 2 months, decrease shortspine thornyhead trip limits from 3,700 lb (1.7 mt) per 2 months to 3,500 lb (1.6 mt) per 2 months, decrease longspine thornyhead trip limits from 15,000 lb (6.8 mt) per 2 months to 7,000 lb (3.2 mt) per 2 months, and decrease sablefish trip limits from 13,000 lb (5.9 mt) per 2 months to 11,000 lb (5.0 mt) per 2 months in Period 6 (November through December);

3. North of 40°10′ N. lat., with selective flatfish trawl gear, increase Dover sole trip limits from 8,000 lb (3.6 mt) per 2 months to 20,000 lb (9.1 mt) per 2 months, increase shortspine thornyhead trip limits from 2,000 lb (0.9 mt) per 2 months to 3,500 lb (1.6 mt) per 2 months, increase longspine thornyhead trip limits from 2,000 lb (0.9 mt) per 2 months to 7,000 lb (3.2 mt) per 2 months, and increase sablefish trip limits from 10,000 lb (4.5 mt) per 2 months to 11,000 lb (5.0 mt) per 2 months in Period 6;

4. North of 40°10′ N. lat., with large and small footrope trawl gear, decrease “other flatfish,” English sole and petrale sole trip limits from “80,000 lb (36.3 mt) per 2 months, no more than 60,000 lb (27.2 mt) per 2 months of which may be petrale sole” to “30,000 lb (13.6 mt) per 2 months, no more than 2,000 lb (0.9 mt) per 2 months of which may be petrale sole” in Period 6;

5. North of 40°10′ N. lat., with selective flatfish trawl gear, decrease “other flatfish,” English sole and petrale sole trip limits from “75,000 lb (34.0 mt) per 2 months, no more than 15,000 lb (6.8 mt) per 2 months of which may be petrale sole” to “30,000 lb (13.6 mt) per 2 months, no more than 2,000 lb (0.9 mt) per 2 months of which may be petrale sole” in Period 6;

6. North of 40°10′ N. lat., with large and small footrope trawl gear, decrease arrowtooth flounder trip limits from 80,000 lb (36.3 mt) per 2 months to 50,000 lb (22.7 mt) per 2 months in Period 6;

7. North of 40°10′ N. lat., with selective flatfish trawl gear, decrease arrowtooth flounder trip limits from 70,000 lb (31.8 mt) per 2 months to 50,000 lb (22.7 mt) per 2 months in Period 6;

8. South of 40°10′ N. lat., decrease Dover sole trawl trip limits from 35,000 lb (15.9 mt) per 2 months to 30,000 lb (13.6 mt) per 2 months, decrease shortspine thornyhead trip limits from 4,600 lb (2.1 mt) per 2 months to 3,500 lb (1.6 mt) per 2 months, decrease longspine thornyhead trip limits from 19,000 lb (8.6 mt) per 2 months to 11,000 lb (5.0 mt) per 2 months, and decrease sablefish trip limits from 16,000 lb (7.3 mt) per 2 months to 9,000 lb (4.1 mt) per 2 months in Period 6 (November through December);

9. Between 40°10′ N. lat. and 38° N. lat., decrease “other flatfish,” and English sole trawl trip limits from 110,000 lb (49.9 mt) per 2 months to 30,000 lb (13.6 mt) per 2 months in Period 6;

10. South of 38° N. lat., decrease “other flatfish,” and English sole trawl trip limits from 110,000 lb (49.9 mt) per 2 months to 40,000 lb (18.1 mt) per 2 months in Period 6;

11. South of 40°10′ N. lat., decrease petrale sole trawl trip limits from 100,000 lb (45.4 mt) per 2 months to 2,000 lb (0.9 mt) per 2 months in Period 6;

12. Between 40°10′ N. lat. and 38° N. lat., decrease arrowtooth flounder trawl trip limits from 20,000 lb (9.1 mt) per 2 months to 10,000 lb (4.5 mt) per 2 months in Period 6;

13. South of 38° N. lat., decrease arrowtooth flounder trawl trip limits from 20,000 lb (9.1 mt) per 2 months to 5,000 lb (2.3 mt) per 2 months in Period 6; and

14. Between 40°10′ N. lat. and 38° N. lat., decrease both the minor slope rockfish/darkblotched rockfish and the splitnose rockfish trawl trip limits from 8,000 lb (3.6 mt) per 2 months to 6,000 lb (2.7 mt) per 2 months in Period 6.

In addition, NMFS is implementing the following inseason adjustment:

(15) Between 38° N. lat. to the U.S./Mexico border, decrease petrale sole trawl trip limits from 42,000 lb per 2 months during September and October to closed (i.e., retention is prohibited) during the month of October.

Bycatch Limits for Widow Rockfish in the Pacific Whiting Fishery

Widow rockfish, an overfished groundfish species, co-occurs with Pacific whiting and is, therefore, commonly caught in Pacific whiting fisheries. Beginning in 2005, NMFS implemented a bycatch limit for certain overfished species that co-occur with whiting fisheries, particularly canary and widow rockfish which are constraining to the whiting fishery in 2005 and 2006. Implementing bycatch limits allowed NMFS to set a higher OY for Pacific whiting in 2005 and 2006 than would otherwise have been possible. Because catch in the Pacific whiting fishery can be tracked by NMFS with near real-time data, NMFS has the ability to manage the Pacific whiting fishery to stay within bycatch limits.

Based on PacFIN QSM data for the shore-based sector as of the September 12, 2005, and on real-time observer data for the at-sea sector, the non-tribal Pacific whiting sector had taken 149.6 mt of the 200 mt widow rockfish bycatch limit. In order to deter a derby fishery that would harvest as much whiting as possible before the widow rockfish bycatch limit is reached, the Pacific Council considered whether some of the widow rockfish not yet set aside or projected to be taken by other sectors in the bycatch scorecard (a management tool used by the Pacific Council's Groundfish Management Team (GMT)) could be moved into the whiting fishery's projected take for 2005, and hence bycatch limits as stated in regulation at 50 CFR 660.373(b)(4). Of the 26.8 mt of widow rockfish estimated to be available, the Pacific Council moved 12 mt of that into the widow rockfish bycatch limit for the Pacific whiting fishery.

Therefore, the Pacific Council recommended and NMFS is implementing an increase in the 2005 bycatch limit for Pacific whiting, as stated at 50 CFR 660.373(b)(4), from 200 mt of widow rockfish to 212 mt.

While NMFS has recently been concerned about the bycatch of Chinook salmon in the Pacific whiting fisheries, this action is not expected to increase salmon bycatch. A temporary rule, effective August 26, 2005, through February 27, 2006 (August 31, 2005, 70 FR 51682), created a closed area, called the Ocean Salmon Conservation Zone, which is closed to fishing for Pacific whiting shoreward of a boundary line approximating the 100-fm (183-m) depth contour to protect Chinook salmon. Limited Entry Fixed Gear and Open Access “daily Trip Limit (DTL) Fishery for Sablefish North of 36° N. Lat.

Based on PacFIN QSM data through September 12, 2005, the sablefish DTL sectors, both limited entry fixed gear and open access, have attained less than half of their allocation for the year. As a result, the Pacific Council's GMT analyzed an increase to the DTL fishery's daily, weekly, and bimonthly limits for the fishery north of 36° N. lat. As part of their analysis, the GMT considered likely increases in effort and limit attainment from vessels engaged in the DTL fishery. This inseason adjustment is not expected to result in increased levels of bycatch beyond what is already accounted for in the bycatch scorecard, since those estimates were based on the assumption that each sector would achieve its allocation.

Therefore, the Pacific Council recommended and NMFS is implementing an increase in the limited entry fixed gear and open access daily trip limit fishery for sablefish north of 36° N. lat. to the U.S./Canada border from 300 lb (136 kg)/day, or 1 landing per week of up to 900 lb (408 kg), not to exceed 3,600 lb/ (1,633 kg) 2 months to 500 lb (227 kg)/day, or 1 landing per week of up to 1,500 lb (680 kg), not to exceed 9,000 lb (4,082)/2 months for October through December.

Washington's Recreational Groundfish RCA

The States of Washington and Oregon manage canary and yelloweye rockfish under a joint harvest guideline for their recreational fisheries. The Washington Department of Fish and Wildlife (WDFW) committed to take management action to close portions of its recreational fisheries seaward of a boundary line approximating the 30-fm (55-m) depth contour as an inseason adjustment, if the harvest guideline for canary and/or yelloweye rockfish were projected to be reached.

At the end of July, 2005, after receiving the recreational catch data through June, WDFW's revised catch projections for the year indicated that 1.8 mt of canary rockfish would be harvested (as compared to a state harvest target of 1.7 mt, and a shared harvest guideline of 8.5 mt). At that time, the revised catch projection for yelloweye rockfish was still below the state harvest target. In response, effective August 5, 2005, WDFW adopted an emergency regulation to close its recreational bottomfish and halibut fisheries seaward of a boundary line approximating the 30-fm (55-m) depth contour from the U.S./Canada border to Leadbetter Pt., WA (46°38.17′ N. lat.) (Washington Marine Catch Areas 2, 3, and 4). The action did not apply to the area between Leadbetter Pt. and the Columbia River as the canary and yelloweye rockfish catches in this area are extremely low.

At the end of August, after receiving the recreational catch data through July, WDFW's revised catch projections for the year indicated that 1.8 mt of canary rockfish was still expected to be harvested. However, the revised catch projection for yelloweye rockfish is 4.2 mt (out of a 3.5 mt state harvest target, and a shared harvest guideline of 6.7 mt). However, it is expected that, with the fishery closed seaward of a boundary line approximating the 30-fm (55-m) depth contour, the additional yelloweye rockfish harvest will be near-zero through the end of the year.

Washington recreational fisheries for bottomfish typically decline in September and halibut fisheries close at the end of September. Therefore, further restricting the Washington recreational fishery after September will have little to no effect.

Therefore, the Pacific Council recommended and NMFS is implementing a boundary line approximating the 30-fm (55-m) depth contour between the U.S./Canada border and 46°38.17′ N. lat. (Leadbetter Point, WA) for the same reasons that Washington took its regulatory action and in order for Federal regulations to conform to the state regulations for Washington recreational groundfish fisheries.

Oregon's Recreational Groundfish Fishery Bag Limits

Due to poor recreational ocean salmon catches off Oregon in 2005, there was a notable effort shift from targeted salmon trips to targeted groundfish trips. In addition, Oregon anglers are experiencing increased catch rates of groundfish species, particularly black rockfish, blue rockfish, and yelloweye rockfish. In an effort to slow catch of groundfish species and ensure that the recreational fishery can continue through the end of the year, the Oregon Department of Fish and Wildlife (ODFW) took action, effective July 16, 2005, to reduce the marine fish daily bag limit from eight fish to five fish. In addition, ODFW revised their catch projection in the bycatch scorecard for yelloweye rockfish in the recreational fishery to 4.0 mt. The shared ODFW/WDFW yelloweye rockfish recreational harvest guideline was also revised in the bycatch scorecard from 6.7 mt to 8.5 mt (4.0 mt in Oregon, 4.2 mt in Washington, and 0.3 mt buffer).

ODFW also prohibited retention of cabezon in their recreational ocean boat fishery beginning August 11, 2005. Landings data indicated that the state imposed ocean boat harvest cap of 15.8 mt had been reached.

Therefore, the Pacific Council recommended and NMFS is implementing a decrease in the recreational marine fish daily bag limit off of Oregon from eight fish to five fish and a prohibition on the retention of cabezon by the ocean boat sector for the same reasons that Oregon took its regulatory action and in order for Federal regulations to conform to the state regulations for Oregon recreational groundfish fisheries.

Classification

These actions are authorized by the Pacific Coast groundfish FMP and implementing regulations and are based on the most recent data available. The aggregate data upon which these actions are based are available for public inspection at the Office of the Administrator, Northwest Region, NMFS, (see ADDRESSES) during business hours.

Pursuant to 5 U.S.C. 553(b)(B), there is good cause to waive prior notice and an opportunity for public comment, as notice and comment would be impracticable and contrary to the public interest. The data upon which these recommendations were based were provided to the Pacific Council and the Pacific Council made its recommendations at its September 19-23, 2005, meeting in Portland, OR. There was not sufficient time after that meeting to draft this document and undergo proposed and final rulemaking before most of these actions need to be in effect, October 1, 2005, as explained below. For the actions in this notice, prior notice and opportunity for comment would be impracticable and contrary to the public interest because affording the time necessary for prior notice and opportunity for public comment would impede the Agency's function of managing fisheries using the best available science to approach without exceeding the OYs for federally managed species. The adjustments to management measures in this document include changes to the commercial and recreational groundfish fisheries. Changes to the limited entry trawl RCA must be implemented in a timely manner by October 1, 2005, so that total catch of groundfish, specifically petrale sole and canary rockfish, stays within the catch levels projected for 2005 based on modeling and the most current catch projections available. Changes to the limited entry trawl trip limit for Dover sole must be implemented in a timely manner by October 1, 2005, so that the trip limits for all trawl gear types are the same and participants are not unnecessarily restricted to a lower harvest level because of differential trip limits. Changes to the limited entry trawl trip limit for petrale sole must be implemented in a timely manner by October 1, 2005, so that total catch stays below the petrale sole ABC/OY. Other changes to the limited entry trawl trip limits must be implemented in a timely manner by November 1, 2005, the next 2 month cumulative limit period, so that total catch of groundfish, specifically petrale sole and Dover sole, stays within the catch levels projected for 2005 based on modeling and the most current catch projections available. Changes to the widow rockfish bycatch limit in the whiting fishery must be implemented by October 1, 2005, in order to provide an opportunity for participants in this fishery to harvest the available whiting quota without being closed early due to attainment of an unnecessarily low widow rockfish bycatch limit. Changes to the limited entry fixed gear and open access DTL sablefish fishery must be implemented by October 1, 2005, in order to provide an opportunity for participants in these fisheries to harvest the available quota. Changes to Washington's recreational fishery RCA and Oregon's recreational fishery bag limits must be implemented as soon as possible in order to conform Federal and state recreational regulations, to protect overfished groundfish species, and to keep the harvest of other groundfish species within the harvest levels projected for 2005. Delaying any of these changes would result in management measures that fail to use the best available science and, in some cases, could lead to early closures of the fishery if harvest of groundfish exceeds levels projected for 2005. This would be contrary to the public interest because it would impair achievement of one of the Pacific Coast Groundfish FMP objectives of providing for year-round harvest opportunities or extending fishing opportunities as long as practicable during the fishing year. Delaying implementation could also lead to exceeding the ABC and/or OY for some species. Thus, the delay would also be contrary to the public's interest in protecting overfished species and other groundfish species from overfishing.

For these reasons, good cause also exists to waive the 30-day delay in effectiveness requirement under 5 U.S.C. 553 (d)(3) for all actions taken in this notice.

These actions are taken under the authority of 50 CFR 660.370(c) and are exempt from review under Executive Order 12866.

List of Subjects in 50 CFR Part 660

Administrative practice and procedure, American Samoa, Fisheries, Fishing, Guam, Hawaiian Natives, Indians, Northern Mariana Islands, Reporting and recordkeeping requirements.

Dated: September 30, 2005.
Alan D. Risenhoover,
Acting Director, Office of Sustainable Fisheries, National Marine Fisheries Service.

For the reasons set out in the preamble, 50 CFR part 660 is amended as follows:

PART 660—FISHERIES OFF WEST COAST STATES AND IN THE WESTERN PACIFIC

1. The authority citation for part 660 continues to read as follows:

Authority: 16 U.S.C. 1801 et seq.

2. In § 660.373, paragraph (b)(4) is revised to read as follows:

§ 660.373 Pacific whiting (whiting) fishery management.

* * * * *

(b) * * *

(4) 2005-2006 bycatch limits in the whiting fishery. The bycatch limits for the whiting fishery may be used inseason to close a sector or sectors of the whiting fishery to achieve the rebuilding of an overfished or depleted stock, under routine management measure authority at § 660.370(c)(1)(ii). These limits are routine management measures under § 660.370(c) and, as such, may be adjusted inseason or may have new species added to the list of those with bycatch limits. For 2005, the whiting fishery bycatch limits for the sectors identified § 660.323(a) are 4.7 mt of canary rockfish and 212 mt of widow rockfish. For 2006, the whiting fishery bycatch limits are 7.3 mt of canary rockfish and 243.2 mt of widow rockfish.

* * * * *

3. In § 660.384, paragraphs (c)(1)(i)(B) and (c)(2)(iii) are revised to read as follows:

§ 660.384 Recreational fishery management measures.

* * * * *

(c) * * *

(1) * * *

(i) * * *

(B) Recreational Rockfish Conservation Area. Fishing for groundfish with recreational gear is prohibited within the recreational RCA. It is unlawful to take and retain, possess, or land groundfish taken with recreational gear within the recreational RCA. A vessel fishing in the recreational RCA may not be in possession of any groundfish. For example, if a vessel participates in the recreational salmon fishery within the RCA, the vessel cannot be in possession of groundfish while in the RCA. The vessel may, however, on the same trip fish for and retain groundfish shoreward of the RCA on the return trip to port.) Off Washington, recreational fishing for all groundfish is prohibited seaward of a recreational RCA boundary line approximating the 30-fm (55-m) depth contour from the U.S./Canada border south to Leadbetter Pt., WA (46°38.17′ N. lat.). Coordinates for the boundary line approximating the 30-fm (55-m) depth contour are listed in § 660.391.

* * * * *

(2) * * *

(iii) Bag limits, size limits. The bag limits for each person engaged in recreational fishing in the EEZ seaward of Oregon are two lingcod per day, which may be no smaller than 24 in (61 cm) total length; and five marine fish per day, which excludes Pacific halibut, salmonids, tuna, perch species, sturgeon, sanddabs, lingcod, striped bass, hybrid bass, offshore pelagic species and baitfish (herring, smelt, anchovies and sardines), but which includes rockfish, greenling, cabezon and other groundfish species. Retention of cabezon is prohibited by Oregon's recreational ocean boat fishery, but is permitted in the shore-based fishery. The minimum size limit for cabezon retained in the recreational fishery is 16 in (41 cm) and for greenling is 10 in (26 cm). Taking and retaining canary rockfish and yelloweye rockfish is prohibited. In the Pacific halibut fisheries, retention of groundfish is governed in part by the Pacific halibut regulations. South of the Washington/Oregon border to Cape Falcon, OR, when Pacific halibut are onboard the vessel, landing groundfish, except sablefish, is prohibited. South of Cape Falcon, OR, to Humbug Mountain, OR, when Pacific halibut are onboard the vessel, retention of groundfish, except sablefish, is prohibited during the Central Coast sport halibut “all-depth” season days. “All-depth” season days are established in the annual management measures for Pacific halibut fisheries, which are published in the Federal Register and are announced on the NMFS halibut hotline, 1-800-662-9825.

* * * * *

4. In part 660, subpart G, Tables 3 (both North and South), Tables 4 (both North and South) and Tables 5 (both North and South) are revised to read as follows:

BILLING CODE 3510-22-P

[FR Doc. 05-19986 Filed 9-30-05; 2:36 pm]

BILLING CODE 3510-22-C